DEPARTMENT OF HOUSING AND URBAN DEVELOPMENT

[Docket No. FR-7091-N-01]

60-Day Notice of Proposed Information Collection: OMB Control No.: 2577-0166

AGENCY: Office of Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 8, 2024.

ADDRESSES: Interested persons are invited to submit comments regarding this proposal. Written comments and recommendations for the proposed information collection can be sent within 60 days of publication of this notice to OIRA_submission@omb.eop.gov or www.reginfo.gov/public/do/PRAMain. Find this particular information collection by selecting “Currently under 60-day Review—Open for Public Comments” or by using the search function. Interested persons are also invited to submit comments regarding this proposal by name and/or OMB Control Number and can be sent to: Dawn Martin or Danielle Miller, Reports Management Officers, Department of Housing and Urban Development, 451 7th Street SW, Room 8210, Washington, DC 20410-5000; telephone (202) 402-6488 for Dawn or (202) 402-3689 for Danielle or email at Dawn.E.Martin@hud.gov or Danielle.L.Miller@hud.gov for a copy of the proposed forms or other available information.

FOR FURTHER INFORMATION CONTACT: Dawn Martin or Danielle Miller, Reports Management Officers, Department of Housing and Urban Development, 451 7th Street SW, Washington, DC 20410; email Dawn Martin or Danielle Miller or telephone number (202) 402-6488 for Dawn or (202) 402-3689 for Danielle. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Dawn Martin or Danielle Miller.

SUPPLEMENTARY INFORMATION: This notice informs the public that HUD is seeking approval from OMB for the information collection described in Section A.

A. Overview of Information Collection

Title of Information Collection: Grant Drawdown Payment Request.

OMB Approval Number: 2577-0166.

Type of Request: Extension of currently approved collection.

Form Number: HUD-27054E.

Description of the need for the information and proposed use: The Line of Credit Control System Request (LOCCS/eLOCCS) is authorized under Sections 102 & 103 of the HUD Reform Act of 1989. The act was enacted to ensure accountability, transparency, and a level playing field in the grants process at the Department. This information collection is necessary to request payment of grant funds or designate an appropriate official. This This package provides a means for Grant recipients to receive payments. LOCCS is HUD's primary grant and subsidy disbursement system for the most of HUD programs. Organizations and individuals have access to these grants through an internet version of LOCCS called eLOCCS, where authorized Business Partners can access, manage, and drawdown grant funds.

Respondents: Public Housing Agencies, State or Local Governments.

Information collection | Number of respondents | Frequency of responses (drawdowns annually per program) | Responses per annum | Burden hour per response | Annual burden hours | Hourly cost per response | Annual cost
Capital Fund 50080-CFP | 2737 | 12 | 32,844.00 | .25 | 8,211.00 | $25.96 | $213,157.56
Operating Fund 50080-OFND | 2737 | 12 | 32,844.00 | .25 | 8211 | 25.96 | 213,157.56
Public Housing Technical Assistance 50080-PHTA | 12 | 12 | 144 | .25 | 3 | 25.96 | 77.88
Hope VI 50080-URP | 50 | 12 | 600 | 1 | 600 | 25.96 | 15,576
Resident Opportunities and Supportive Services (ROSS) SC 50080-SC | 400 | 12 | 4,800.00 | .25 | 1200 | 25.96 | 31,152
Family Self-Sufficiency 50080-FSS | 850 | 12 | 10,200.00 | .25 | 2,550.00 | 25.96 | 66,198.00
Jobs Plus | 50 | 12 | 600 | 1 | 600 | 25.96 | 15,576.00
| 6,836 |  | 82,032 |  | 21,375 |  | 554,895.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 3507 of the Paperwork Reduction Act of 1995, 44 U.S.C. chapter 35.

Nicholas Bilka,
Chief, Office of Policy, Programs and Legislative Initiatives.

[FR Doc. 2024-02297 Filed 2-5-24; 8:45 am]

BILLING CODE 4210-67-P